DEPARTMENT OF THE INTERIOR

Fish and Wildlife Service

Notice of Availability, Draft Restoration Plan and Environmental Assessment

AGENCY: Fish and Wildlife Service, Department of the Interior.

ACTION: Notice of Availability.

SUMMARY: The U.S. Fish and Wildlife Service (Service), on behalf of the Department of the Interior and the State of Rhode Island, announces the release for public review of the draft Restoration Plan and Environmental Assessment (RP/EA) for the Landfill and Resource Recovery, Inc Superfund Site. The RP/EA describes the trustees' proposal to restore natural resources injured as a result of the release of hazardous substances from the site.

DATES: Written comments must be submitted on or before May 30, 2002.

ADDRESSES: Requests for copies of the RP/EA may be made to the U.S. Fish and Wildlife Service, New England Field Office, 70 Commercial Street, Suite 300, Concord, New Hampshire 03301.

Written comments or materials regarding the RP/EA should be sent to the same address.

FOR FURTHER INFORMATION CONTACT: Molly B. Sperduto or Kenneth C. Carr, Environmental Contaminants Program, U.S. Fish and Wildlife Service, 70 Commercial Street, Suite 300, Concord, New Hampshire 03301.

Interested parties may also call 603-223-2541 for further information.

SUPPLEMENTARY INFORMATION: The Landfill and Resource Recovery, Inc. Superfund Site, located in North Smithfield, Rhode Island was an active landfill until 1986, when the landfill was closed and approximately three-fourths of the site was covered with a synthetic cap. Due to erosion and re-grading associated with capping the landfill, approximately 1 acre of palustrine emergent and scrub-shrub wetland habitat was destroyed in perpetuity.

In 1997, the United States of America and the State of Rhode Island settled claims for natural resource damages associated with the Landfill and Resource Recovery, Inc. Superfund Site under the authority of the Comprehensive Environmental Response, Compensation, and Liability Act (CERCLA) of 1980. The settlement proceeds will be used to compensate for loss of natural resources under trusteeship of the Department of the Interior and the State of Rhode Island. The RP/EA is being released in accordance with CERCLA of 1980 as amended, commonly known as Superfund, (42 U.S.C. 9601 et seq.), the Natural Resource Damage Assessment Regulations found at 43 CFR, part 11, and the National Environmental Policy Act. It is intended to describe the trustees' proposals to restore natural resources injured at the site and evaluate the impacts of each.

The RP/EA describes a number of habitat restoration and protection alternatives and discusses the environmental consequences of each. Restoration efforts which have the greatest potential to restore wetlands and the services those wetlands provide to wetland-dependant wildlife are preferred. Based on an evaluation of the various restoration alternatives, the restoration of wetland habitat at the former Lonsdale Drive-In is proposed. This alternative maximizes the benefit to wetland-dependent wildlife, restoring over 20 acres of riparian habitat, including 7 acres of wetland.

Interested members of the public are invited to review and comment on the RP/EA. Copies of the RP/EA are available for review at the U.S. Fish and Wildlife Service's New England Field Office in Concord, New Hampshire (70 Commercial Street, Suite 300, Concord, New Hampshire). Additionally, the RP/EA will be available for review at the North Smithfield Municipal Annex Building. Written comments will be considered and addressed in the final RP/EA at the conclusion of the restoration planning process.

Author: The primary author of this notice is Molly Sperduto, U.S. Fish & Wildlife Service, New England Field Office, 70 Commercial Street, Suite 300, Concord, New Hampshire 03301.

Authority: The authority for this action is CERCLA of 1980 as amended, commonly known as Superfund, (42 U.S.C. 9601 et seq.) and the Natural Resource Damage Assessment Regulations found at 43 CFR, part 11.

Dated: April 11, 2002.
Mamie A. Parker,
Regional Director, Region 5, U.S. Fish and Wildlife Service, DOI Designated Authorized Official.

[FR Doc. 02-9982 Filed 4-23-02; 8:45 am]

BILLING CODE 4310-55-P